DEPARTMENT OF COMMERCE

National Oceanic and Atmospheric Administration

50 CFR Part 622

[Docket No. 101206604-1758-02]

RIN 0648-XE480

Fisheries of the Caribbean, Gulf of Mexico, and South Atlantic; Coastal Migratory Pelagic Resources of the Gulf of Mexico and South Atlantic; Trip Limit Increase

AGENCY: National Marine Fisheries Service (NMFS), National Oceanic and Atmospheric Administration (NOAA), Commerce.

ACTION: Temporary rule; inseason trip limit increase.

SUMMARY: NMFS increases the trip limit in the commercial sector for king mackerel in the Florida east coast subzone to 75 fish per day in or from the exclusive economic zone (EEZ). This trip limit increase is necessary to maximize the socioeconomic benefits associated with harvesting the king mackerel commercial quota.

DATES: This rule is effective 12:01 a.m., local time, March 1, 2016, through March 31, 2016.

FOR FURTHER INFORMATION CONTACT: Susan Gerhart, NMFS Southeast Regional Office, telephone: 727-824-5305, email: susan.gerhart@noaa.gov.

SUPPLEMENTARY INFORMATION: The fishery for coastal migratory pelagic fish (king mackerel, Spanish mackerel, and cobia) is managed under the Fishery Management Plan for the Coastal Migratory Pelagic Resources of the Gulf of Mexico and South Atlantic (FMP). The FMP was prepared by the Gulf of Mexico and South Atlantic Fishery Management Councils (Councils) and is implemented by NMFS under the authority of the Magnuson-Stevens Fishery Conservation and Management Act (Magnuson-Stevens Act) by regulations at 50 CFR part 622.

On January 30, 2012 (76 FR 82058, December 29, 2011), NMFS implemented a commercial quota of 1,102,896 lb (500,265 kg) for Gulf migratory group king mackerel in the Florida east coast subzone (50 CFR 622.384(b)(1)(i)(A)). From November 1 through March 31, the Florida east coast subzone encompasses an area of the EEZ south of a line extending due east of the boundary between Flagler and Volusia Counties, FL, and north of a line extending due east of the boundary between Miami-Dade and Monroe Counties, FL. From November 1 through the end of February, king mackerel in or from the subzone may be possessed on board or landed from a permitted vessel in amounts not exceeding 50 fish per day (50 CFR 622.385(a)(2)(i)(A)).

However, beginning on March 1, if less than 70 percent of the Florida east coast subzone king mackerel commercial quota has been harvested by that date, king mackerel in or from that subzone may be possessed on board or landed from a permitted vessel in amounts not exceeding 75 fish per day (50 CFR 622.385(a)(2)(i)(B)(2)).

NMFS has determined that less than 70 percent of the quota for Gulf migratory group king mackerel in the Florida east coast subzone will be harvested by March 1, 2016. Accordingly, a 75-fish trip limit applies to vessels fishing for king mackerel in or from the EEZ in the Florida east coast subzone effective 12:01 a.m., local time, March 1, 2016. The 75-fish trip limit will remain in effect until the commercial quota is reached and the subzone closes, or until the end of the subzone's current fishing year on March 31, 2016.

Classification

The Regional Administrator, Southeast Region, NMFS, has determined this temporary rule is necessary for the conservation and management of Gulf migratory group king mackerel and is consistent with the Magnuson-Stevens Act and other applicable laws.

This action is taken under 50 CFR 622.385(a)(2)(i)(B)(2) and is exempt from review under Executive Order 12866.

These measures are exempt from the procedures of the Regulatory Flexibility Act because the temporary rule is issued without opportunity for prior notice and comment.

This action responds to the best scientific information available. The Assistant Administrator for Fisheries, NOAA (AA), finds that the need to immediately implement this commercial trip limit increase constitutes good cause to waive the requirements to provide prior notice and opportunity for public comment pursuant to the authority set forth in 5 U.S.C. 553(b)(B), because prior notice and opportunity for public comment on this temporary rule is unnecessary and contrary to the public interest. Such procedures are unnecessary because the rule establishing the trip limits has already been subject to notice and comment, and all that remains is to notify the public of the trip limit increase. Such procedures are contrary to the public interest, because prior notice and opportunity for public comment would require time, thus delaying fishermen's ability to catch more king mackerel than the present trip limit allows and preventing fishermen from reaping the socioeconomic benefits associated with this increased trip limit.

As this action allows fishermen to increase their harvest of king mackerel from 50 fish to 75 fish per day in or from the EEZ of the Florida east coast subzone, the AA finds it relieves a restriction and may go into effect without a 30-day delay in effectiveness, pursuant to 5 U.S.C. 553(d)(1).

Authority: 16 U.S.C. 1801 et seq.

Dated: March 1, 2016.
Emily H. Menashes,
Acting Director, Office of Sustainable Fisheries, National Marine Fisheries Service.

[FR Doc. 2016-04798 Filed 3-1-16; 4:15 pm]

BILLING CODE 3510-22-P